DEPARTMENT OF TRANSPORTATION

Surface Transportation Board

49 CFR Part 1201

[Docket No. EP 706]

Reporting Requirements for Positive Train Control Expenses and Investments

AGENCY: Surface Transportation Board, DOT.

ACTION: Notice of intent to institute a rulemaking proceeding.

SUMMARY: In a decision served on February 10, 2011, the Board granted a petition by the Union Pacific Railroad Company (UP) to institute a rulemaking proceeding to explore whether the Board should require Class I railroads to report separately how much each railroad is spending on the development, installation, and maintenance of Positive Train Control, a federally mandated safety system that will automatically stop or slow a train before an accident can occur. Several parties filed comments in reply to UP's petition. The Board will address the arguments and issues raised in those filings in a subsequent decision. The Board's decision makes no determination on the merits of UP's specific proposal.

DATES: The Board's decision became effective on February 10, 2011. The Board will establish further procedures for public comment in a subsequent decision.

FOR FURTHER INFORMATION CONTACT: Valerie Quinn, (202) 245-0382. Federal Information Relay Service (FIRS) for the hearing impaired, (800) 877-8339.

SUPPLEMENTARY INFORMATION: Additional information is contained in the Board's February 10, 2011, decision, which is available on our Web site at http://www.stb.dot.gov. Copies of the decision may be purchased by contacting the Board's Office of Public Assistance, Governmental Affairs, and Compliance at (202) 245-0236. Assistance for the hearing impaired is available through FIRS at (800) 877-8339.

This action will not significantly affect either the quality of the human environment or the conservation of energy resources.

Decided: February 10, 2011.
By the Board, Chairman Elliott, Vice Chairman Nottinham, and Commissioner Mulvey.
Jeffrey Herzig,
Clearance Clerk.

[FR Doc. 2011-3396 Filed 2-14-11; 8:45 am]

BILLING CODE 4915-01-P